COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities and deletes product(s) and service(s) previously furnished by such agencies.

DATES: Comments must be received on or before: August 20, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

7930-01-690-9999—Cleaner, Glass, Biobased, Concentrate

7930-01-691-0002—Cleaner, Glass, Biobased, Ready-To-Use

7930-01-687-2546—Detergent, General Purpose, Cleaner/Degreaser, Biodegradable, Concentrated

Designated Source of Supply: Lighthouse for the Blind and Visually Impaired, San Francisco, CA

Contracting Activity: FEDERAL ACQUISITION SERVICE, GSA/FSS GREATER SOUTHWEST ACQUISITI

Distribution: A-List

Mandatory for: Total Government Requirement

NSN(s)—Product Name(s):

6140-01-624-2917—Battery, Storage, 12V, Lead Acid, 15 Amp Hours

6140-01-619-9474—Battery, Storage, 12V, Lead Acid, 8.5 Amp Hours

6140-01-237-8005—Battery, Storage, 12V, Lead Acid, 1.2 Amp Hours

6135-01-370-2599—Battery, Nonchargeable, 3.6V, Lithium

Designated Source of Supply: Eastern Carolina Vocational Center, Inc., Greenville, NC

Contracting Activity: DEFENSE LOGISTICS AGENCY, DLA LAND AND MARITIME

Distribution: C-List

Mandatory for: 100% of the requirement of the Department of Defense

Deletions

The following product(s) and service(s) are proposed for deletion from the Procurement List:

Product(s)

NSN(s)—Product Name(s):

8415-00-245-2065—Jersey, Reversible, US Navy, Blue and Yellow, Large

8415-00-245-2054—Jersey, Reversible, US Navy, Blue and Yellow, Medium

8415-00-245-2052—Jersey, Reversible, US Navy, Blue and Yellow, Small

8415-00-245-2073—Jersey, Reversible, US Navy, Blue and Yellow, X- Large

8415-00-914-0313—Jersey, Flight Deck Crewman's, Blue, Medium

8415-00-914-0312—Jersey, Flight Deck Crewman's, Blue, Small

8415-00-914-0314—Jersey, Flight Deck Crewman's, USN, Blue, Large

8415-00-914-0315—Jersey, Flight Deck Crewman's, USN, Blue, X-Large

8415-00-914-0318—Jersey, Flight Deck Crewman's, USN, Brown, Large

8415-00-914-0317—Jersey, Flight Deck Crewman's, USN, Brown, Medium

8415-00-914-0316—Jersey, Flight Deck Crewman's, USN, Brown, Small

8415-00-914-0319—Jersey, Flight Deck Crewman's, USN, Brown, X-Large

8415-00-914-0323—Jersey, Flight Deck Crewman's, USN, Green, Large

8415-00-914-0322—Jersey, Flight Deck Crewman's, USN, Green, Medium

8415-00-914-0321—Jersey, Flight Deck Crewman's, USN, Green, Small

8415-00-914-0324—Jersey, Flight Deck Crewman's, USN, Green, X-Large

8415-00-914-0327—Jersey, Flight Deck Crewman's, USN, Purple, Large

8415-00-914-0326—Jersey, Flight Deck Crewman's, USN, Purple, Medium

8415-00-914-0325—Jersey, Flight Deck Crewman's, USN, Purple, Small

8415-00-914-0328—Jersey, Flight Deck Crewman's, USN, Purple, X-Large

8415-00-914-0331—Jersey, Flight Deck Crewman's, USN, Red, Large

8415-00-914-9481—Jersey, Flight Deck Crewman's, USN, Red, Medium

8415-00-914-0329—Jersey, Flight Deck Crewman's, USN, Red, Small

8415-00-914-4143—Jersey, Flight Deck Crewman's, USN, Red, X-Large

8415-00-914-0335—Jersey, Flight Deck Crewman's, USN, White, Large

8415-00-914-0334—Jersey, Flight Deck Crewman's, USN, White, Medium

8415-00-914-0333—Jersey, Flight Deck Crewman's, USN, White, Small

8415-00-914-0336—Jersey, Flight Deck Crewman's, USN, White, X-Large

8415-00-914-0339—Jersey, Flight Deck Crewman's, USN, Yellow, Large

8415-00-914-0338—Jersey, Flight Deck Crewman's, USN, Yellow, Medium

8415-00-914-0337—Jersey, Flight Deck Crewman's, USN, Yellow, Small

8415-00-914-0340—Jersey, Flight Deck Crewman's, USN, Yellow, X-Large

Designated Source of Supply: The Arkansas Lighthouse for the Blind, Little Rock, AR

Designated Source of Supply: Winston-Salem Industries for the Blind, Inc, Winston-Salem, NC

Designated Source of Supply: INDUSTRIES OF THE BLIND, INC, Greensboro, NC

Designated Source of Supply: Westmoreland County Association, Greensburg, PA

Contracting Activity: DLA TROOP SUPPORT, PHILADELPHIA, PA

NSN(s)—Product Name(s):

7530-00-985-7097—Folder, File, Reinforced, ⅓″ Cut, 11 pt., Natural Kraft, 11¾″ x 9¼″

7530-00-02R-1357—Label, Pressure Sensitive

Designated Source of Supply: CLOVERNOOK CENTER FOR THE BLIND AND VISUALLY IMPAIRED, Cincinnati, OH

Contracting Activity: STRATEGIC ACQUISITION CENTER, FREDERICKSBURG, VA

Service(s)

Service Type: Custodial and Related Services

Mandatory for: GSA PBS Region 5, Federal Building, 105 South Sixth Street, Mt. Vernon, IL

Designated Source of Supply: Jefferson County Comprehensive Services, Inc., Mt. Vernon, IL

Contracting Activity: PUBLIC BUILDINGS SERVICE, PBS R5

Michael R. Jurkowski,
Acting Director, Business Operations.

[FR Doc. 2023-15502 Filed 7-20-23; 8:45 am]

BILLING CODE 6353-01-P